DEPARTMENT OF COMMERCE

Foreign-Trade Zones Board

[Order No. 1194]

Expansion of Foreign-Trade Zone 47 Boone County, KY

Pursuant to its authority under the Foreign-Trade Zones Act of June 18, 1934, as amended (19 U.S.C. 81a-81u), the Foreign-Trade Zones Board (the Board) adopts the following Order:

Whereas, the Greater Cincinnati Foreign Trade Zone, Inc., grantee of Foreign-Trade Zone 47, submitted an application to the Board for authority to expand FTZ 47 to include an additional site (Site 2) at the Park West International Industrial Park, within the Cincinnati Customs port of entry area (FTZ Docket 15-2001; filed 3/12/01);

Whereas, notice inviting public comment was given in the Federal Register (66 FR 16037, 3/22/01) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 47 is approved, subject to the Act and the Board's regulations, including Section 400.28.

Signed at Washington, DC, this 27th day of September 2001.
Faryar Shirzad,
Assistant Secretary of Commerce for Import Administration, Alternate Chairman, Foreign-Trade Zones Board.
Attest:
Dennis Puccinelli,
Executive Secretary.

[FR Doc. 01-26128 Filed 10-16-01; 8:45 am]

BILLING CODE 3510-DS-P